DEPARTMENT OF AGRICULTURE

Commodity Credit Corporation

Natural Resources Conservation Service

7 CFR Part 1470

Conservation Security Program

AGENCY: Commodity Credit Corporation and the Natural Resources Conservation Service, USDA.

ACTION: Extension of public comment period.

SUMMARY: The Conservation Security Program (CSP) is authorized by Title XII, Chapter 2, Subchapter A, of the Food Security Act of 1985, as amended by the Farm Security and Rural Investment Act of 2002. The Natural Resources Conservation Service (NRCS) published an advance notice of proposed rulemaking for CSP on February 18, 2003, (68 FR 7720), with a comment period expiring March 20, 2003. NRCS is hereby extending the period during which it will accept public comment on the advance notice of proposed rulemaking for CSP to April 3, 2003. This extension is to give the public an additional opportunity to comment on key issues that have been raised regarding the implementation of the program.

DATES: Comments must be received in writing by April 3, 2003.

ADDRESSES: Send comments in writing, by mail, to Conservation Operations Division, Natural Resources Conservation Service, P.O. Box 2890, Washington, DC 20013-2890, or by e-mail to FarmBillRules@usda.gov; Attn: Conservation Security Program. The Advance Notice of Proposed Rulemaking may also be accessed via the Internet through the NRCS homepage, at http://www.nrcs.usda.gov, and by selecting Farm Bill 2002. All comments, including names and addresses when provided, are placed in the record and are available for public inspection.

FOR FURTHER INFORMATION CONTACT: Charles Whitmore, Acting Director, Conservation Operations Division, NRCS, P.O. Box 2890, Washington, DC 20013-2890; telephone: (202) 720-1845; fax: (202) 720-4265; submit e-mail to: charles.whitmore@usda.gov, Attention: Conservation Security Program.

Signed in Washington, DC, on March 17, 2003.
Bruce I. Knight,
Chief, Natural Resources Conservation Service and Vice President, Commodity Credit Corporation.

[FR Doc. 03-6825 Filed 3-20-03; 8:45 am]

BILLING CODE 3410-16-M